DEPARTMENT OF TRANSPORTATION

Federal Transit Administration

Exempt Discretionary Program Grants (Section 5309) for Urban Circulator Systems

AGENCY: Federal Transit Administration (FTA), DOT.

ACTION: Notice of Availability of FTA Urban Circulator Funds; Solicitation of Project Proposals.

SUMMARY: The Federal Transit Administration (FTA) announces the availability of Section 5309 funds for exempt discretionary grants for Urban Circulator Systems which support the Department of Transportation Livability Initiative. The Urban Circulator program will be funded using $130 million in unallocated Discretionary New Starts/Small Starts Program funds, authorized by 49 U.S.C. 5309(a) of the Safe, Accountable, Flexible, Efficient, Transportation Equity Act: A Legacy For Users (SAFETEA-LU), Public Law 109-59, August 10, 2005. FTA may use additional Section 5309(a) Discretionary funding that becomes available for allocation to further support this initiative.

This notice invites proposals for urban circulator projects seeking less than $25,000,000 in Federal Section 5309 assistance that would compete for Section 5309 discretionary funds authorized by 49 U.S.C. 5309(a). The Secretary may make grants under 5309(a) to assist State and local governmental authorities in financing new fixed guideway capital projects including the acquisition of real property, the initial acquisition of rolling stock for the systems, the acquisition of rights-of-way, and relocation. This notice includes priorities established by FTA for these discretionary funds, the criteria FTA will use to identify meritorious projects for funding, and describes how to apply.

This announcement is available on the FTA Web site at: http://www.fta.dot.gov. FTA will announce final selections on the Web site and in the Federal Register. A synopsis of this announcement will be posted in the FIND module of the government-wide electronic grants Web site at http://www.grants.gov. Proposals may be submitted to FTA electronically at UrbanCirculator@dot.gov or through the GRANTS.GOV APPLY function. Those who apply via e-mail at UrbanCirculator@dot.gov should receive a confirmation e-mail within 2 business days.

DATES: Complete proposals for the discretionary program grants for urban circulator systems must be submitted by February 8, 2010. The proposals must be submitted electronically through the GRANTS.GOV Web site or via e-mail at UrbanCirculator@dot.gov. Anyone intending to apply electronically through GRANTS.GOV should initiate the process of registering on the GRANTS.GOV site immediately to ensure completion of registration before the deadline for submission.

ADDRESSES: Proposals may be submitted to FTA electronically at UrbanCirculator@dot.gov or through the GRANTS.GOV APPLY function. Those who apply via e-mail at UrbanCirculator@dot.gov should receive a confirmation e-mail within 2 business days.

FOR FURTHER INFORMATION CONTACT: Contact the appropriate FTA Regional Administrator (Appendix) for proposal-specific information and issues. For general program information, contact Elizabeth Day, (202) 366-5159, e-mail: Elizabeth.Day@ dot.gov in the FTA Office of Planning and Environment, Office of Project Planning. A TDD is available at 1-800-877-8339 (TDD/FIRS).

SUPPLEMENTARY INFORMATION:

Table of Contents

I. Funding Opportunity Description

II. Award Information

III. Eligibility Information

IV. Application and Submission Information

V. Application Review, Selection, and Notification

VI. Award Administration

VII. Agency Contacts

Appendix FTA Regional Offices

I. Funding Opportunity Description

A. Authority

The program is authorized under 49 U.S.C. 5309(a) as amended by section 3011 of SAFETEA-LU. The Secretary may make grants under this section to assist State and local governmental authorities in financing new fixed guideway capital projects, including the acquisition of real property, the initial acquisition of rolling stock for the systems, the acquisition of rights-of-way, and relocation. Consistent with Section 5309(e)(1)(B), projects receiving less than $25,000,000 in Federal assistance with respect to a new fixed guideway capital project are considered exempt from certain requirements of the program, until a final regulation issued under paragraph (9) of this subsection takes effect.

B. Background

FTA has long fostered livable communities and sustainable transit development through its various programs and activities. Public transportation supports the development of communities, providing effective and reliable transportation alternatives that increase access to jobs, health and social services, entertainment, educational opportunities, and other activities of daily life, while also improving mobility within and among these communities. Through various initiatives and legislative changes over the last fifteen years, FTA has allowed and encouraged projects that help integrate transit into a community through neighborhood improvements and enhancements to transit facilities or services, or make improvements to areas adjacent to public transit facilities that may ease the transportation needs of transit users or support other infrastructure investments that enhance the use of transit for the community.

On June 16, 2009, U.S. Department of Transportation (DOT) Secretary Ray LaHood, U.S. Department of Housing and Urban Development (HUD) Secretary Shaun Donovan, and U.S. Environmental Protection Agency (EPA) Administrator Lisa Jackson announced a new partnership to help American families in all communities—rural, suburban and urban—gain better access to affordable housing, more transportation options, and lower transportation costs.

DOT, HUD and EPA created a high-level interagency partnership to better coordinate Federal transportation, environmental protection, and housing investments. The Urban Circulator Program funding will be awarded to eligible projects that best demonstrate these livability principles (see C. below).

Approximately $130 million in unallocated Section 5309 New Starts/Small Starts funds are available under this notice. By using these available funds, FTA and DOT can support tangible livability improvements within existing programs while demonstrating the feasibility and value of such improvements. These demonstrations can provide a sound basis for advancing greater investments in the future. In addition, the program builds on the momentum generated by the American Recovery and Reinvestment Act 2009 and can help inform Administration and Congressional decisions makers on guidance needs for reauthorization.

C. Purpose

Improving mobility and shaping America's future by ensuring that the transportation system is accessible, integrated, and efficient, and offers flexibility of choices is a key strategic goal of DOT. FTA is committed to creating livable communities that improve the quality of life for all Americans. Urban circulator systems such as streetcars provide a transportation option that connects urban destinations and fosters the redevelopment of urban spaces into walkable mixed use, high density environments. Through the Urban Circulator Program grants, FTA will invest in a limited number of projects that fulfill the six livability principles that serve as the foundation for the DOT-HUD-EPA Partnership for Sustainable Communities:

1. Provide more transportation choices: Develop safe, reliable and economical transportation choices to decrease household transportation costs, reduce our nation's dependence on foreign oil, improve air quality, reduce greenhouse gas emissions and promote public health.

2. Promote equitable, affordable housing: Expand location- and energy-efficient housing choices for people of all ages, incomes, races and ethnicities to increase mobility and lower the combined cost of housing and transportation.

3. Enhance economic competitiveness: Improve economic competitiveness through reliable and timely access to employment centers, educational opportunities, services and other basic needs by workers as well as expanded business access to markets.

4. Support existing communities: Target Federal funding toward existing communities—through such strategies as transit-oriented, mixed-use development and land recycling—to increase community revitalization, improve the efficiency of public works investments, and safeguard rural landscapes.

5. Coordinate policies and leverage investment: Align Federal policies and funding to remove barriers to collaboration, leverage funding and increase the accountability and effectiveness of all levels of government to plan for future growth, including making smart energy choices such as locally generated renewable energy.

6. Value communities and neighborhoods: Enhance the unique characteristics of all communities by investing in healthy, safe and walkable neighborhoods—rural, urban or suburban.

FTA will evaluate proposals and assess a project's ability to advance local economic development goals, improve accessibility, create partnerships that result in the integration of transportation and land-use decision making and result in environmental benefits.

II. Award Information

Federal transit funds are available to State or local governmental authorities as recipients and other public transportation providers as subrecipients for up to 80% of the net project capital cost, not to exceed $24.99 million in Section 5309 funds. Rail transit projects selected under the program would be subject to State Safety Oversight, consistent with 49 CFR part 659.

III. Eligibility Information

A. Eligible Applicants

Eligible applications under this program are public bodies and agencies (transit authorities and other State and local public bodies and agencies thereof) including States, municipalities, other political subdivisions of States; public agencies and instrumentalities of one or more States; and certain public corporations, boards, and commissions established under State law, who are authorized to engage in public transportation.

B. Eligible Projects

To be eligible for funding under Section 5309(a), a project must be based on the results of an alternative analysis and preliminary engineering. In addition, a project must meet one of the following guideway criteria:

1. Be a fixed guideway for at least 50% of the project length in the peak period—AND/OR—

2. Be a corridor-based bus project with the following minimum elements:

a. Substantial Transit Stations

b. Signal Priority/Pre-emption (for Bus/LRT)

c. Low Floor/Level Boarding Vehicles

d. Special Branding of Service

e. Frequent Service—10 min peak/15 min off peak

f. Service offered at least 14 hours per day

C. Eligible Expenses

Section 5309 grants authority to the Secretary to make grants “to assist State and local governmental authorities in financing new fixed guideway capital projects, including the acquisition of real property, the initial acquisition of rolling stock for the systems, the acquisition of rights-of-way, and relocation.” Section 5309 also allows the Secretary to make grants “for fixed guideway corridor development for projects in the advanced stages of alternatives analysis or preliminary engineering.” Due to the limited amount of funds, FTA is limiting awards under this program to the activities mentioned in the first sentence and not the second. Section 5309 funds cannot be used to reimburse grantees that have incurred prior expenses for the project absent evidence that FTA had issued a Letter of No Prejudice (LONP) for the project prior to the costs being incurred. There is no blanket pre-award authority for projects to be funded under this announcement prior to the identification in the Federal Register of selected projects.

D. Cost Sharing

FTA will provide up to 80% of the net project capital cost; however the amount of Section 5309(a) funds must be less than $25 million for each urban circulator project selected. Other Federal funds that are eligible to be expended for transportation capital projects can be applied to the project. FTA will not approve deferred local share under this program.

IV. Application and Submission Information

A. Proposal Submission Process

Proposals may also be submitted to FTA electronically at UrbanCirculator@dot.gov or through the GRANTS.GOV APPLY function. The Office of Management and Budget (OMB) requires all Federal agencies to make applications for competitive grant programs available through GRANTS.GOV. A synopsis of this announcement will be posted in the FIND module of the government-wide electronic grants Web site at http://www.grants.gov and applicants will be able to apply through the APPLY module of that site. Those who apply via e-mail at UrbanCirculator@dot.gov should receive a confirmation e-mail within 2 business days.

B. Application Content

1. Applicant Information

This addresses basic identifying information, including: (i) Applicant name and FTA recipient ID number; (ii) contact information (including contact name, title, address, e-mail, fax and phone number); (iii) description of services provided by the agency, including areas served; and (iv) a description of the agency's technical, legal and financial capacity to implement the proposed project. For applicants applying through GRANTS.GOV, some of this information is included in the Standard Form 424.

2. Project Information

Every proposal must:

a. Describe the scope of the project for which funding is requested and provide a detailed operating plan for the urban circulator for which assistance is being sought, including the length of the project, number of vehicles, number of stations/stops, frequency of service, hours of operation, location of maintenance facilities, park and ride lots, and intermodal connections and transfer centers and a brief discussion of the problem the project seeks to solve.

b. Provide a preliminary management plan and a feasible and sufficiently detailed project schedule.

c. Address each of the evaluation criteria separately, providing evidence that demonstrates how the project responds to each criterion, for example, coordinated land use plans, economic development incentives, existing and projected transit ridership that will result from the project and status of environmental compliance activities.

d. Provide a line item budget for the project, including the Federal amount requested from FTA and the total cost for each purpose for which funds are sought, and the total Federal amount requested from FTA and total project cost. Other Federal funds can be applied to the project.

e. Document the matching funds, including amount and source of the match, demonstrating strong local and private sector financial participation in the project. Provide support documentation including audited financial statements, bond-ratings, and documents demonstrating the commitment of non-Federal funding to the project, or a timeframe upon which those commitments would be made.

f. The Proposal may include additional supplemental information, for example, architectural drawings, letters of support, maps.

C. Submission Dates and Times

Complete proposals for the Urban Circulator Program may be submitted electronically through the GRANTS.GOV Web site or by e-mail electronically at UrbanCirculators@dot.gov February 8, 2010. Submission by one of the electronic methods above is required. Mail and fax submissions will not be accepted except for supplemental information that cannot be sent electronically. The total application may not exceed 25 pages. In addition, a synopsis of this announcement will also be posted in the FIND module of the government-wide electronic grants Web site at http://www.grants.gov and applicants will be able to apply through the APPLY module of that site.

D. Funding Restrictions

Only proposals from eligible recipients for eligible activities will be considered for funding (see Section III). Due to funding limitations, applicants that are selected for funding may receive less than the amount requested.

E. Other Submission Requirements

Applicants should submit 3 copies of any supplemental information that cannot be submitted electronically to the appropriate FTA regional office. Supplemental information submitted in hardcopy must be postmarked or delivered by alternate delivery services by February 8, 2010.

V. Application Review Information

A. Project Evaluation Criteria

Projects will be evaluated according to the following criteria. Applicants are encouraged to demonstrate the responsiveness of a project to any and all of the selection criteria with the most relevant information that applicants can provide, regardless of whether such information has been specifically requested, or identified, in this notice. FTA will assess the extent to which a project produces one or more of the following outcomes.

(1.) Livability: Livability investments are projects that not only deliver transportation benefits, but are also designed and planned in such a way that they have a positive impact on qualitative measures of community life. This element delivers benefits that are inherently difficult to measure. However, it is implicit to livability that its benefits are shared and therefore magnified by the number of potential users in the affected community. Therefore, descriptions of how projects enhance livability should include a description of the affected community and the scale of the project's impact, including existing transit ridership and projected transit ridership that will result from the project. In order to determine whether a project improves the quality of the living and working environment of a community, FTA will qualitatively assess whether the project:

(a) Will significantly enhance accessibility through the creation of more convenient transportation options for travelers;

(b) Will improve existing transportation choices by enhancing points of modal connectivity;

(c) Will improve accessibility and transport services for economically disadvantaged populations, non-drivers, senior citizens, and persons with disabilities;

(d) Is the result of a planning process which coordinated transportation and land-use planning decisions and encouraged community participation in the process.

FTA will also assess whether there is existing or planned mixed income housing, including low income housing, within walking distance of the project. In addition, particular attention will be paid to the degree to which the proposed project contributes significantly to broader traveler accessibility through intermodal connections or improved connections between residential and commercial areas. Consequently the application should clearly identify how the project will connect redeveloping or new neighborhoods on vacant or underutilized land to each other or to major attractors in the central city or how circulator or connector lines under the project will connect developed neighborhoods with one another or with the business district in the central city. Applications should also note proposed strategies to deliver high quality pedestrian environments in the corridor.

(2) Sustainability: In order to determine whether a project promotes a more environmentally sustainable transportation system, i.e., reducing reliance on automobile travel, improving the pedestrian and walk environment of a community and using environmental design techniques in the planning, construction, and operation of the project, FTA will assess the project's ability to:

(a) Improve energy efficiency or reduce energy consumption/green house gas emissions; applicants are encouraged to provide information regarding the expected use of clean or alternative sources of energy; projects which introduce new technology through innovative and improved products such as those which involve energy saving propulsion technologies within the eligible major capital investment criteria or that demonstrate a projected decrease in the movement of people by less energy-efficient vehicles or systems will be given priority under this factor; and

(b) Maintain, protect or enhance the environment, as evidenced by environmentally friendly policies and practices utilized in the project design, construction, and operation that exceed the requirements of the National Environmental Policy Act including items such as whether the project uses a Leadership in Energy and Environmental Design (LEED)-certified design, the vehicles or facilities are rated with the energy-star, the project uses a brownfield, construction equipment is retrofitted with catalytic converters, the project utilizes recycled materials, the project includes elements to conserve energy, such as passive solar heating, solar panels, wind turbines, reflective roofing or paving materials, or other advanced environmental design elements such as a green roof, etc.

(3) Economic Development: FTA will assess whether the project will foster redevelopment adjacent to the project for which assistance is being sought. In addition, FTA will assess whether existing plans, policies, and incentives promote economic development and transit supportive development that provides jobs and services within the community, and whether there is demonstrated progress towards achieving mixed use development, at those locations specifically served by the proposed project.

(4) Leveraging of public and private investments.

(a) Jurisdictional & Stakeholder Collaboration: To measure a project's alignment with this criterion, FTA will assess the project's involvement of non-Federal entities and the use of non-Federal funds, including the scope of involvement and share of total funding. FTA will give priority to projects that receive financial commitments from, or otherwise involve, State and local governments, other public entities, or private or nonprofit entities, including projects that engage parties that are not traditionally involved in transportation projects, such as nonprofit community groups or the private owners of real property abutting the project. FTA will assess the amount of private debt and equity to be invested in the project or the amount of co-investment from State, local or other non-profit sources.

(b) Disciplinary Integration: Livability incorporates the concept of collaborative decision-making. To promote collaboration on the objectives outlined in this notice and to demonstrate the value of partnerships across government agencies that serve the various public service missions FTA will give priority to projects that are supported, financially or otherwise, by non-transportation public agencies that are pursuing similar objectives and are aligning their community development activities to increase the efficiency of Federal investments. FTA will give priority to transportation projects that are supported by relevant public housing agencies, or transportation projects that encourage energy efficiency or improve the environment and are supported by relevant public agencies with energy or environmental missions.

(5) The applicant must demonstrate the ability to carry out the proposed project successfully. Applicants must have basic technical, legal, and financial capacity as a precondition of grant award as evidenced by:

(a) Project Schedule: A feasible and sufficiently detailed project schedule demonstrating that the project can begin construction within eighteen months of receipt of a Discretionary Grant and that the Grant Funds will be spent steadily and expeditiously once construction starts.

(b) Environmental Approvals: Receipt (or reasonably anticipated receipt) of all environmental approvals necessary for the project to proceed to construction on the timeline specified in the project schedule, including satisfaction of all Federal, State and local requirements and completion of the National Environmental Policy Act process. Applicants must consult with their FTA regional office to determine the feasibility of a reasonably anticipated receipt of an environmental decision on the proposed project.

(c) Legislative Approvals: Receipt of all necessary legislative approvals. The project application must demonstrate: (1) That development or redevelopment agreements are in place with respect to the project; (2) land use policies complementary to the project have been adopted for land in close proximity to the project; and (3) property zoned to accommodate mixed-use development is available adjacent to the project.

(d) State and Local Planning: The inclusion of the project in the relevant State, metropolitan, and local planning documents. All regionally significant projects requiring an action by FTA must be in the metropolitan transportation plan, Transportation Improvement Program (TIP) and Statewide Transportation Improvement Program (STIP). To the extent a project is required to be in a metropolitan transportation plan, TIP and/or STIP it will not receive an Urban Circulator Discretionary Grant until it is included in such plans.

(e) Technical Feasibility: The technical feasibility of the project, including completion of sufficient engineering and design.

(f) Financial Feasibility: The viability and completeness of the project's financing package, including evidence of stable and reliable financial commitments and contingency reserves, as appropriate, and evidence of the grant recipient's ability to manage grants.

B. Review and Selection Process

Proposals will be screened and ranked based on the criteria in this notice by FTA headquarters staff in consultation with the appropriate FTA regional office (see Appendix), and coordinated with representatives of HUD and EPA. Highly qualified projects will be considered for inclusion in a national list of projects that addresses the identified priorities and represents the highest and best use of the available funding. The FTA Administrator will determine the final selection and amount of funding for each project. Selected projects will be announced in early 2010. FTA will publish the list of all selected projects and funding levels in the Federal Register.

VI. Award Administration

A. Award Notices

FTA will announce project selections in a Federal Register Notice and FTA regional offices will contact successful applicants. FTA will award grants for the selected projects to the applicant through the FTA electronic grants management and award system, TEAM, after receipt of a complete application in TEAM. These grants will be administered and managed by the FTA regional offices in accordance with the Federal requirements of the Section 5309 bus program. At the time the project selections are announced, FTA will extend pre-award authority for the selected projects. There is no blanket pre-award authority for these projects prior to announcement.

B. Administrative and National Policy Requirements

1. Grant Requirements

If selected, applicants will apply for a grant through TEAM and adhere to the customary FTA grant requirements of the Section 5309 Major Capital Investment program, including those of FTA C 9300.1A; C 5010.1C; and labor protections required under 49 U.S.C. 5333(b). Discretionary grants greater than $500,000 will go through Congressional Notification and release process. Technical assistance regarding these requirements is available from each FTA regional office.

2. Planning

Applicants are encouraged to notify the appropriate State DOT and Metropolitan Planning Organizations (MPOs) in areas likely to be served by the project funds made available under this program. Before grant award, the project must satisfy requirements for inclusion in the STIP and Metropolitan TIP, where applicable.

3. Standard Assurances

FTA annually issues a set of standard Certifications and Assurances which each FTA grantee must sign, assuring that it will comply with all applicable Federal statutes, regulations, executive orders, FTA circulars, and other Federal administrative requirements in carrying out any project supported by the FTA grant. The Applicant acknowledges that it is under a continuing obligation to comply with the terms and conditions of the grant agreement issued for its project with FTA. The Applicant understands that Federal laws, regulations, policies, and administrative practices might be modified from time to time and affect the implementation of the project. The Applicant agrees that the most recent Federal requirements will apply to the project, unless FTA issues a written determination otherwise. The Applicant must submit all relevant current Certifications and Assurances prior to receiving a grant under this announcement.

C. Reporting

Post-award reporting requirements include submission of Financial Status Reports, Milestone reports, and narrative progress reports in TEAM on a quarterly basis. Documentation is required for payment. Recipients of exempt discretionary grants for urban circulators shall submit information that describes the impact of the urban circulator on transit ridership and economic development after two years of operation. In addition, grants which include innovative technologies may be required to report on the performance of these technologies.

VII. Agency Contacts

Contact the appropriate FTA Regional Administrator (see Appendix) for proposal-specific information and issues. For general program information, contact Elizabeth Day, (202) 366-5159, e-mail: Elizabeth.Day@dot.gov in the FTA Office of Planning and Environment, Office of Project Planning. A TDD is available at 1-800-877-8339 (TDD/FIRS).

Issued in Washington, DC, this 3rd day of December 2009.
Peter M. Rogoff,
Administrator.

Appendix A—FTA Regional and Metropolitan Offices
Richard H. Doyle | Robert C. Patrick
Regional Administrator | Regional Administrator
Region 1—Boston | Region 6—Ft. Worth
Kendall Square | 819 Taylor Street, Room 8A36
55 Broadway, Suite 920 | Ft. Worth, TX 76102
Cambridge, MA 02142-1093 | Tel. 817 978-0550
Tel. 617 494-2055
States served: Connecticut, Maine, Massachusetts, New Hampshire, Rhode Island, and Vermont. | States served: Arkansas, Louisiana, Oklahoma, New Mexico and Texas.
Brigid Hynes-Cherin | Mokhtee Ahmad
Regional Administrator | Regional Administrator
Region 2—New York | Region 7—Kansas City, MO
One Bowling Green, Room 429 | 901 Locust Street, Room 404
New York, NY 10004-1415 | Kansas City, MO 64106
Tel. No. 212 668-2170 | Tel. 816 329-3920
States served: New Jersey, New York. | States served: Iowa, Kansas, Missouri, and Nebraska.
Letitia Thompson | Terry Rosapep
Regional Administrator | Regional Administrator
Region 3—Philadelphia | Region 8—Denver
1760 Market Street, Suite 500 | 12300 West Dakota Ave., Suite 310
Philadelphia, PA 19103-4124 | Lakewood, CO 80228-2583
Tel. 215 656-7100 | Tel. 720-963-3300
States served: Delaware, Maryland, Pennsylvania, Virginia, West Virginia, and District of Columbia. | States served: Colorado, Montana, North Dakota, South Dakota, Utah, and Wyoming.
Yvette Taylor | Leslie T. Rogers
Regional Administrator | Regional Administrator
Region 4—Atlanta | Region 9—San Francisco
230 Peachtree Street, NW., Suite 800 | 201 Mission Street, Suite 1650
Atlanta, GA 30303 | San Francisco, CA 94105-1926
Tel. 404 562-3500 | Tel. 415 744-3133
States served: Alabama, Florida, Georgia, Kentucky, Mississippi, North Carolina, Puerto Rico, South Carolina, Tennessee, and Virgin Islands. | States served: American Samoa, Arizona, California, Guam, Hawaii, Nevada, and the Northern Mariana Islands.
Marisol Simon | Rick Krochalis
Regional Administrator | Regional Administrator
Region 5—Chicago | Region 10—Seattle
200 West Adams Street, Suite 320 | Jackson Federal Building
Chicago, IL 60606 | 915 Second Avenue, Suite 3142
Tel. 312 353-2789 | Seattle, WA 98174-1002
| Tel. 206 220-7954
States served: Illinois, Indiana, Michigan, Minnesota, Ohio, and Wisconsin. | States served: Alaska, Idaho, Oregon, and Washington.
New York Metropolitan Office | Chicago Metropolitan Office
Region 2—New York | Region 5—Chicago
One Bowling Green, Room 428 | 200 West Adams Street, Suite 320
New York, NY 10004-1415 | Chicago, IL 60606
Tel. 212-668-2202 | Tel. 312-353-2789
Philadelphia Metropolitan Office | Los Angeles Metropolitan Office
Region 3—Philadelphia | Region 9—Los Angeles
1760 Market Street, Suite 500 | 888 S. Figueroa Street, Suite 1850
Philadelphia, PA 19103-4124 | Los Angeles, CA 90017-1850
Tel. 215-656-7070 | Tel. 213-202-3952

[FR Doc. E9-29245 Filed 12-3-09; 4:15 pm]

BILLING CODE P